DEPARTMENT OF HEALTH AND HUMAN SERVICES

Administration for Children and Families

Submission for OMB Review; Comment Request

Title: Evaluation of the Transitional Living Program (TLP).

OMB No.: New Collection.

Description: The Runaway and Homeless Youth Act (RHYA), as amended by Public Law 106-71 (42 U.S.C. 5701 et seq.), provides for the Transitional Living Program (TLP), a residential program lasting up to 18 months designed to prepare older homeless youth ages 16-21 for a healthy and self-sufficient adulthood. Section 119 of RHYA requires a study on the long-term housing outcomes of youth after exiting the program. In addition to collecting information on housing outcomes, the study will also consider the living, employment, education, and family situation of the youth before and after their time in the TLP. This information will be used to better understand the most effective practices in improving long-term outcomes of youth in an effort to guide program improvements.

Respondents: (1) Youth ages 16-21 participating in Transitional Living Programs and (2) the Executive Director and Program Manager representing TLP grantees.

Annual Burden Estimates
Instrument | Number of respondents | Number of responses per respondent | Average burden hours per response | Total burden hours
Grantee Survey | 70 | 1 | 1 | 70
Youth Baseline Survey | 760 | 1 | 0.50 | 380
Youth Exit Survey | 760 | 1 | 0.50 | 380
Youth 6-Month Follow Up | 760 | 1 | 0.50 | 380
Youth 12-Month Follow Up | 760 | 1 | 0.50 | 380
Service Log | 760 | 1 | 0.25 | 190

Estimated Total Annual Burden Hours: 1,780.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7245, Attn: Desk Officer for the Administration for Children and Families.

Dated: April 28, 2009.
Janean Chambers,
Reports Clearance Officer.

[FR Doc. E9-10020 Filed 4-30-09; 8:45 am]

BILLING CODE 4184-01-P